DEPARTMENT OF THE TREASURY

Internal Revenue Service

Proposed Collection; Comment Request For Form 8853

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 8853, Medical Savings Accounts and Long-Term Care Insurance Contracts.

DATES: Written comments should be received on or before August 22, 2000 to be assured of consideration.

ADDRESSES: Direct all written comments to Garrick R. Shear, Internal Revenue Service, room 5244, 1111 Constitution Avenue NW., Washington, DC 20224.

FOR FURTHER INFORMATION CONTACT: Requests for additional information or copies of the form and instructions should be directed to Carol Savage, (202) 622-3945, Internal Revenue Service, room 5242, 1111 Constitution Avenue NW., Washington, DC 20224.

SUPPLEMENTARY INFORMATION: Title: Medical Savings Accounts and Long-Term Care Insurance Contracts.

OMB Number: 1545-1561.

Form Number: 8853.

Abstract: This form is used by individuals to report general information about their medical savings accounts (MSAs), to figure their MSA deductions, and to figure their taxable distributions from MSAs. The form is also used to report taxable payments from long-term care (LTC) contracts.

Current Actions: Part I of Section A, General Information, was deleted because it is no longer needed. Section 301(k) of the Health Insurance Portability and Accountability Act of 1996 required collection of the information requested in Part I only from returns filed before 2001. On page 5 of the instructions, a worksheet was added to figure the amount of any additional 50% tax on distributions from a Medicare+Choice MSA. I.R.C. § 138(c)(2) provides that the amount of any additional tax is affected by the value of the MSA on December 31 of the prior year. Because 1999 was the first year for making contributions to Medicare+Choice MSAs, 2000 is the first year in which the I.R.C. § 138(c)(2) limitation applies.

Type of Review: Revision of a currently approved collection.

Affected Public: Individuals or households.

Estimated Number of Respondents: 36,000.

Estimated Time Per Respondent: 1 hour, 44 minutes.

Estimated Total Annual Burden Hours: 62,605.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information of respondents, including through the use of automated collection techniques or other forms of information technology; and (e) estimates of capital or start-up costs and costs of operation, maintenance, and purchase of services to provide information.

Approved: June 16, 2000.
Garrick R. Shear,
IRS Reports Clearance Officer.

[FR Doc. 00-15868 Filed 6-22-00; 8:45 am]

BILLING CODE 4830-01-U